DEPARTMENT OF HEALTH AND HUMAN SERVICES

Centers for Disease Control and Prevention

[Program Announcement 00053]

Cooperative Agreement for Collaborating Centers for Public Health Law; Notice of Availability of Funds

A. Purpose

The Centers for Disease Control and Prevention (CDC) announces the availability of fiscal year (FY) 2000 funds for a cooperative agreement program for the development and operation of a collaborating center (or centers) for public health law. This program addresses all the Healthy People 2010 focus areas, but especially focus area 23, the public health infrastructure objectives. For the conference copy of “Healthy People 2010” visit the Internet site: http://www.health.gov/healthypeople.

Laws serve as a framework for public health and can be used as a public health intervention. A large and diverse array of laws and legally enforceable policies of federal, state, and local jurisdictions affect public health. These laws include statutes, ordinances, and bylaws that authorize public health programs and specific authorities of public health agencies and officials; case law; taxes and fees; rules, regulations, and contracts; and laws enacted for other purposes that indirectly or directly affect public health.

Healthy People 2010 recognizes that laws are an essential part of the public health infrastructure, and calls on local, State, Tribal, and federal jurisdictions to “review and evaluate the extent to which their statutes, ordinances, and bylaws assure the delivery of essential public health services.” In support of this goal, CDC proposes to fund one or more organizations that will work toward establishing a strong legal foundation for effective public health practice through training and education, collaboration, communication, and analysis. Specific goals of the collaborating center(s) will be to: (a) improve the effectiveness of laws as a type of public health intervention; (b) improve the quality, accessibility, and scientific basis of information about laws related to public health; (c) improve the knowledge of laws related to public health among public health practitioners, the legal community, and public policy makers; and (d) stimulate contributions by organizations and individuals to improvement of the legal foundation for public health. (See Addendum 1 for the definition of the term “public health law” used in this announcement.)

B. Eligible Applicants

Applications may be submitted by public and private nonprofit organizations and by governments and their agencies; that is, universities, colleges, research institutions, other public and private nonprofit organizations, and State and local governments or their bona fide agents, and federally recognized Indian tribal governments, Indian tribes, or Indian tribal organizations. CDC specifically encourages applications from consortia composed of accredited schools of public health or medicine, accredited schools of law, and accredited schools of public policy and/or public administration.

Note: Public Law 104-65 states that an organization described in section 501(c)(4) of the Internal Revenue Code of 1986 that engages in lobbying activities is not eligible to receive Federal funds constituting an award, grant, cooperative agreement, contract, loan, or any other form.

C. Availability of Funds

Approximately $300,000 is available in FY 2000 to fund one to three awards. It is expected that the awards will begin on or about September 30, 2000, and will be made for a 12-month budget period within a project period of up to 3 years. Funding estimates may change, and awards could be supplemented by additional funding.

Continuation awards within an approved project period will be made on the basis of satisfactory progress as evidenced by required reports and the availability of funds.

D. Program Requirements

In conducting activities to achieve the purpose of this program, the recipient will be responsible for the activities under 1. (Recipient Activities), and CDC will be responsible for the activities listed under 2. (CDC Activities).

1. Recipient Activities

a. Identify and evaluate existing training and continuing education in the area of public health law for public health practitioners, professionals in the legal community, and public policy makers; develop training and continuing education to address identified gaps; conduct training using both existing and newly developed training and continuing education materials, with priority on training for public health practitioners. Newly developed training and continuing education materials should support core competencies as outlined in Essential Service 6 of “The Public Health Workforce: An Agenda for the 21st Century”. Addendum 2, full text available at the following Internet site: http://www.health.gov/phfunctions/pubhlth.pdf

b. Research laws that affect public health, addressing the following general objectives: (1) Identify and analyze existing and proposed laws relevant to public health; (2) assess the distribution, provisions, and trends in laws that affect public health; (3) develop and implement a research agenda for public health law with broad stakeholder involvement; (4) synthesize and translate research on laws affecting public health; and (5) disseminate results and findings from analyses.

c. Stimulate collaboration and communication among organizations active in public health, law, public policy, and related fields by developing, linking, and disseminating information regarding laws and public health through an Internet website and/or other means; convening conferences and other meetings; and producing, sponsoring, and disseminating reports, analyses, and other publications.

2. CDC Activities

a. Provide technical assistance to the grantee(s) on an as-needed basis.

b. Collaborate with the grantee(s) to identify appropriate audiences, content, and media for training and continuing education, for information dissemination, for conferences and other meetings, and for publications.

c. Collaborate with the grantee(s) in developing a research agenda for public health law.

d. Provide appropriate scientific information and data relating to prevention, health promotion, public health practice, and related topics.

E. Application Content

Use the information in the Program Requirements, Other Requirements, and Evaluation Criteria sections to develop the application content. Applications must address each of the “Recipient Activities.” Your application will be evaluated on the criteria listed, so it is important to follow them in laying out your program plan. The application narrative should be no more than 25 double-spaced pages, printed on one side, with 1-inch margins, and unreduced font.

F. Submission and Deadline

Letter of Intent (LOI)

Prospective applicants are asked to submit, by June 23, 2000, an LOI that includes the program announcement number and title, the name, address, and telephone number of the Principal Investigator, and the identities of other key personnel and participating institutions. Although a LOI is not required, is not binding, and is not used in the review of an application, the information it contains is used to estimate the potential reviewer workload and avoid conflict of interest in the review.

Send the letter of intent to the Grants Management Specialist listed in “Where to Obtain Additional Information” section of this announcement.

Application

Submit the original and two copies of PHS-398 (OMB Number 0925-0001) (adhere to the instructions on the Errata Instruction Sheet for PHS 398). Forms are available at the following Internet address: www.cdc.gov/od/pgo/forminfo.htm. On or before July 14, 2000, submit the application to the Grants Management Specialist identified in the “Where to Obtain Additional Information” section of this announcement.

Deadline

Applications shall be considered as meeting the deadline if they are either: (a) Received on or before the deadline date; or (b) Sent on or before the deadline date and received in time for submission to the independent review group. (Applicants must request a legibly dated U.S. Postal Service postmark or a legibly dated receipt from a commercial carrier. Private metered postmarks shall not be acceptable as proof of time and date of mailing.)

Late Applications

Applications which do not meet the criteria in (a) or (b) above are considered late applications, will not be considered, and will be returned to the applicant.

G. Evaluation Criteria

Each application will be evaluated individually against the following criteria:

1. Background and Need (10 Points)

a. The extent to which the applicant clearly describes the need for, and benefits of, a collaborating center in public health law, including delineation of target audiences and proposed benefits they would realize from the collaborating center program.

b. The applicant's experience in working with public health agencies, academia, and other organizations active in public health law.

2. Goals and Objectives (15 Points)

a. The extent to which the application addresses the goals listed under “Purpose” in this announcement.

b. The extent to which the application specifies objectives, activities, work products, and timelines which are supportive of the goals, measurable, and feasible.

3. Project Management and Staffing (20 Points)

a. The extent to which the project staff is clearly identified, possesses appropriate skills and knowledge, and has clearly described roles.

b. The extent to which the application provides details regarding the level of effort and allocation of time for each staff position.

c. The extent to which the applicant possesses management and other systems to assure successful and responsible program implementation.

d. The applicant's experience in the management of resources and production of successful outcomes.

4. Methods and Plan of Operation (20 Points)

a. The soundness of the methods the applicant proposes to use to develop and conduct each of the “Recipient Activities.”

b. The specificity, relevance, and feasibility of the plan of action the applicant proposes to take to develop and conduct each of the “Recipient Activities.”

5. Collaboration (25 Points)

a. The extent to which the applicant documents evidence of past or current collaboration with partners active in public health practice and public health law.

b. The extent to which the applicant proposes relevant and feasible collaboration with other organizations in conducting the “Recipient Activities” and methods for stimulating collaboration among other organizations.

c. The extent to which the application includes signed agreements specifying the roles and responsibilities of each organization that will be collaborating with the applicant.

6. Evaluation Plan (10 Points)

The extent to which the applicant provides a detailed description of the methods to be used to evaluate program effectiveness, including identification of the variables to be evaluated, identification of the person(s) or organization(s) that will conduct evaluations, and specification of the time line for evaluations.

7. Budget (Not Scored)

The extent to which the budget is clearly explained, adequately justified, reasonable, sufficient for the proposed project activities, and consistent with the intended use of the cooperative agreement funds.

H. Other Requirements

Technical Reporting Requirements

Provide CDC with original plus two copies of:

1. Detailed, semi-annual progress reports;

2. A financial status report, no more than 90 days after the end of the budget period; and

3. Final financial status and performance reports, no more than 90 days after the end of the project period.

Send all reports to the Grants Management Specialist identified in the “Where to Obtain Additional Information” section of this announcement.

The following additional requirements are applicable to this program. For a complete description of each, see Attachment I in the application kit.

AR-2 Requirements for Inclusion of Women and Racial and Ethnic Minorities in Research

AR-7 Executive Order 12372 Review

AR-8 Public Health System Reporting Requirements

AR-9 Paperwork Reduction Act Requirements

AR-10 Smoke-Free Workplace Requirements

AR-11 Healthy People 2010

AR-12 Lobbying Restrictions

AR-13 Prohibition on Use of CDC Funds for Certain Gun Control Activities

AR-15 Proof of Non-Profit Status

I. Authority and Catalog of Federal Domestic Assistance Number

This program is authorized under sections 301, 310, and 311 of the Public Health Service Act [42 U.S.C. sections 241, 242o, and 243], as amended. The Catalog of Federal Domestic Assistance number is 93.283.

J. Where To Obtain Additional Information

To receive additional written information and to request an application kit, call 1-888-GRANTS4 (1-888 472-6874). You will be asked to leave your name and address and will be instructed to identify the Announcement number of interest.

If you have questions after reviewing the contents of all the documents, business management technical assistance may be obtained from: Van Malone, Grants Management Specialist, Grants Management Branch, Procurement and Grants Office, Centers for Disease Control and Prevention 2920 Brandywine Road, Room 3000, Atlanta, GA 30341-4146, Telephone number 770-488-2764, Email address vxm7@cdc.gov.

For additional information on obtaining a copy of the application package, see also the CDC home page on the Internet: www.cdc.gov/od/pgo/funding/grantmain.htm.

For program technical assistance, contact: Anthony D. Moulton, Ph.D., Associate Director for Policy, Program Analysis and Academic Programs, Public Health Practice Program Office, Centers for Disease Control and Prevention, 4770 Buford Hwy. (K-36), Atlanta, GA 30341-3724, Phone 770-488-2404/Fax 770-488-2420, E-mail: ADM6@CDC.GOV.

Dated: April 24, 2000.
John L. Williams,
Director, Procurement and Grants Office, Centers for Disease Control and Prevention (CDC).

[FR Doc. 00-10677 Filed 4-27-00; 8:45 am]

BILLING CODE 4163-18-P